DEPARTMENT OF STATE

22 CFR Part 171

[Public Notice: 10991]

RIN 1400-AE17

Privacy Act; STATE—01, Email Archive Management Records

AGENCY: Department of State.

ACTION: Final rule.

SUMMARY: The Department of State is issuing a final rule to exempt portions of the Email Archive Management Records, STATE-01, from certain provisions of the Privacy Act of 1974.

DATES: This final rule is effective March 9, 2020.

FOR FURTHER INFORMATION CONTACT: John C. Sullivan, Senior Agency Official for Privacy; Office of Global Information Services, A/GIS; Department of State, HST, Room 1417; 2201 C St. NW, Washington, DC 20520, on (202) 647-6435 or at Privacy@state.gov. Please include “RIN 1400-AE17, State-01” in the subject line of your email.”

SUPPLEMENTARY INFORMATION: The Department of State maintains the Email Archive Management Records system of records, designated as STATE-01. The primary purpose of this system of records is to capture emails and attachments that interact with a Department of State email account and to store them in a secure repository that allows for search, retrieval, and view when necessary.

For additional background, see the notice of proposed rulemaking published on February 4, 2019 (84 FR 1419), and the system of records notice published on December 12, 2017 (82 FR 58477). The Department received no public comment on these documents.

List of Subjects in 22 CFR Part 171

Administrative practice and procedure; Freedom of Information; Privacy.

For the reasons stated in the preamble, 22 CFR part 171 is amended as follows:

PART 171—[AMENDED]

1. The authority citation continues to read as follows:

Authority: 22 U.S.C. 2651a; 5 U.S.C. 552, 552a; E.O. 12600 (52 FR 23781); Pub. L. 95-521, 92 Stat. 1824 (codified as amended at 5 U.S.C. app. 101-505); 5 CFR part 2634.

2. Section 171.26 is amended by:

a. In paragraph (a)(2)(iii), adding an entry to the list in alphabetical order, for “Email Archive Management Records, STATE-01”.

b. In paragraphs (b)(1), (2), (3), (4), (5), (6) and (7), adding an entry to the lists in alphabetical order, for “Email Archive Management Records, STATE-01”.

John C. Sullivan,
Senior Agency Official for Privacy, Deputy Assistant Secretary for Global Information Services, Bureau of Administration, U.S. Department of State.

[FR Doc. 2020-04181 Filed 3-6-20; 8:45 am]

BILLING CODE 4710-24-P